DEPARTMENT OF TRANSPORTATION

Federal Aviation Administration

14 CFR Part 73

[Docket No. FAA-2016-9479; Airspace Docket No. 15-AAL-4]

RIN 2120-AA66

Proposed Establishment of Restricted Area R-2205 A, B, C, D, E, F, G and H, and Revocation of Restricted Area R-2205; Fairbanks, AK

AGENCY: Federal Aviation Administration (FAA), DOT.

ACTION: Notice of proposed rulemaking (NPRM).

SUMMARY: This action proposes to expand upon the current Restricted Area R-2205 by subdividing 8 separate areas in the vicinity of Fairbanks, AK, over the Digital Multipurpose Training Range (DMPTR) and the Yukon Training Area (YTA), to provide a more realistic protective airspace required for hazardous activities within the Joint Pacific Alaska Range Complex (JPARC).

DATES: Comments must be received on or before April 20, 2017.

ADDRESSES: Send comments on this proposal to the U.S. Department of Transportation, Docket Operations, 1200 New Jersey Avenue SE., West Building Ground Floor, Room W12-140, Washington, DC 20590-0001; telephone: 1 (800) 647-5527, or (202) 366-9826. You must identify FAA Docket Number FAA-2016-9479 and Airspace Docket No. 15-AAL-4 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted airspace at Fairbanks AK, to contain activities deemed hazardous to nonparticipating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2016-9479 and Airspace Docket No. 15-AAL-4) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket Number FAA-2016-9479 and Airspace Docket Number 15-AAL-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 1601 Lind Ave. SW., Renton, WA 98057.

Background

The Air Force and Army are currently developing YTA as one of JPARC's most important training areas. Expanding R-2205 would provide larger airspace to more realistically conduct service and joint hazardous training activities, consistent with current and future combat environments. The restricted area and Surface Danger Zones (SDZ) must be large enough to encompass the DMPTR and other ranges in the YTA.

This proposed airspace would allow for manned and unmanned teaming of aviation assets and allow Air-to-Ground Integration (AGI) during large training exercises such as Red Flag and Distant Frontier. Additionally, the expansion of the restricted area over the DMPTR would allow for greater training complexity by incorporating AGI and more consistent training due to a reduction in non-participatory aircraft over the flying range.

The activities within the proposed expansion of R-2205 are to meet the overall training objectives of the Department of Defense. The activities would include live and inert precision and unguided munitions, unmanned aerial vehicles (UAV) laser operations, joint combined arms live fire exercises, gunnery collective skills training, demolitions, indirect fire and helicopter integration with UAVs.

The proposed restricted area would be subdivided into segmented blocks to enable restricted area activation for only the needed block. Segments activation would reduce the impact to non-participating aircraft. Some subdivisions will overlap with existing Military Operating Areas (MOAs). Considering the new proposed restricted areas are not continuous and the MOAs are not continuous, the potential exist for both the restricted areas and MOAs to be active at the same time. To alleviate this situation, the MOA descriptions will be amended to exclude those portions that overlap into the restricted areas when the restricted areas are active at the same time as the MOAs. This proposal would provide the Air Force and the Army with the necessary expansion to meet both current and future training requirements.

The Proposal

The FAA is proposing an amendment to Title 14, Code of Federal Regulations (14 CFR) part 73 to remove the current Restricted area R-2205, Stuart Creek, AK, and establish R-2205A through H, Fairbanks, AK. The FAA is proposing this action at the request of the United States Army in Alaska. The proposed restricted areas are described below.

R-2205A and E would overlap the current R-2205 with a 1-mile extension to the east along the eastern boundary and a 3-mile extension to the north along the northern boundary. The western boundary is the same as R-2205B and F. The altitudes would be from the surface up to but not including 10,000 feet MSL (R-2205A) and 10,000 feet MSL to 31,000 feet MSL (R-2205E).

R-2205B and F would be established west of R-2205A and E and east of R-2205C/D/G/H areas. The northern and southern boundaries are the same as R-2205A and E. The altitudes would be from the surface up to but not including 10,000 feet MSL (R-2205B) and 10,000 feet MSL to 31,000 feet MSL (R-2205F).

R-2205C and G would be established northeast and southeast of Eilson Air Force Base bordering R-2205D and H on the western boundary. The altitudes would be from the surface up to but not including 10,000 feet MSL (R-2205C) and 10,000 feet MSL to 31,000 feet MSL (R-2205G).

R-2205D and H would be established east of Eielson Air Force Base bordering R-2205C and G to the northeast and southeast. The altitudes would be from the surface up to but not including 10,000 feet MSL (R-2205D) and 10,000 feet MSL to 31,000 feet MSL (R-2205H).

Finally, R-2205, Stuart Creek AK would be removed.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.22 Alaska [Amended]

2. § 73.22 is amended as follows:

* * * * *

R-2205 Stuart Creek, AK [Removed]

R-2205A Fairbanks, AK [New]

Boundaries—Beginning at lat. 64°45′29″ N., long. 146°47′49″ W.; to lat. 64°48′48″ N., long. 146°47′29″ W.; to lat. 64°48′47″ N., long. 146°32′14″ W.; to lat. 64°46′37″ N., long. 146°32′20″ W.; to lat. 64°46′36″ N., long. 146°10′37″ W.; to lat. 64°40′15″ N., long. 146°10′39″ W.; to lat. 64°35′48″ N., long. 146°10′40″ W.; to lat. 64°35′48″ N., long. 146°11′38″ W.; to lat. 64°33′52″ N., long. 146°19′39″ W.; to lat. 64°33′38″ N., long. 146°19′39″ W.; to lat. 64°33′38″ N., long. 146°25′35″ W.; to the point of beginning.

Designated altitudes. Surface to but not including 10,000 feet MSL.

Time of designation. 0700-1900 local time Monday-Friday; other times by NOTAM.

Controlling agency. FAA, Fairbanks Approach Control.

Using agency. U.S. Army, AK (USARAK), Commanding General, Joint Base Elmendorf-Richardson (JBER), AK.

R-2205B Fairbanks, AK [New]

Boundaries—Beginning at lat. 64°45′29″ N., long. 146°47′49″ W.; to lat. 64°33′38″ N., long. 146°25′35″ W.; to lat. 64°33′38″ N., long. 146°45′18″ W.; to lat. 64°33′51″ N., long. 146°45′19″ W.; to lat. 64°33′51″ N., long. 146°46′19″ W.; to lat. 64°34′04″ N., long. 146°46′20″ W.; to lat. 64°41′10″ N., long. 146°55′00″ W.; to lat. 64°48′48″ N., long. 146°54′59″ W.; to lat. 64°48′48″ N., long. 146°47′29″ W.; to the point of beginning.

Designated altitudes. Surface to but not including 10,000 feet MSL.

Time of designation. 0700-1900 local time Monday-Friday; other times by NOTAM.

Controlling agency. FAA, Fairbanks Approach Control.

Using agency. U.S. Army, AK (USARAK), Commanding General, Joint Base Elmendorf-Richardson (JBER), AK.

R-2205C Fairbanks, AK [New]

Boundaries—Beginning at lat. 64°48′48″ N., long. 146°54′59″ W.; to lat. 64°41′10″ N., long. 146°55′00″ W.; to lat. 64°34′04″ N., long. 146°46′20″ W.; to lat. 64°36′14″ N., long. 146°56′23″ W.; to lat. 64°37′47″ N., long. 146°56′23″ W.; counter-clockwise along the 4.7-mile radius of Eielson AFB; to lat. 64°43′40″ N., long. 146°59′26″ W.; to lat. 64°44′54″ N., long. 146°59′33″ W.; to lat. 64°44′54″ N., long. 146°59′56″ W.; to lat. 64°48′47″ N., long. 146°59′59″ W.; to the point of beginning.

Designated altitudes. Surface to but not including 10,000 feet MSL.

Time of designation. 0700-1900 local time Monday-Friday; other times by NOTAM.

Controlling agency. FAA, Fairbanks Approach Control.

Using agency. U.S. Army, AK (USARAK), Commanding General, Joint Base Elmendorf-Richardson (JBER), AK.

R-2205D Fairbanks, AK [New]

Boundaries—Beginning at lat. 64°43′40″ N., long. 146°59′26″ W.; clockwise along the 4.7-mile radius of Eielson AFB; to lat. 64°37′47″ N., long. 146°56′23″ W.; to lat. 64°39′42″ N., long. 146°56′23″ W.; to lat. 64°39′41″ N., long. 146°57′23″ W.; to lat. 64°40′06″ N., long. 146°57′19″ W.; to lat. 64°40′09″ N., long. 147°00′19″ W.; to lat. 64°41′26″ N., long. 147°00′29″ W.; to lat. 64°41′26″ N., long. 147°02′26″ W.; to lat. 64°43′37″ N., long. 147°02′23″ W.; to the point of beginning.

Designated altitudes. Surface to but not including 10,000 feet MSL.

Time of designation. 0700-1900 local time Monday-Friday; other times by NOTAM.

Controlling agency. FAA, Fairbanks Approach Control.

Using agency. U.S. Army, AK (USARAK), Commanding General, Joint Base Elmendorf-Richardson (JBER), AK.

R-2205E Fairbanks, AK [New]

Boundaries—Beginning at lat. 64°45′29″ N., long. 146°47′49″ W.; to lat. 64°48′48″ N., long. 146°47′29″ W.; to lat. 64°48′47″ N., long. 146°32′14″ W.; to lat. 64°46′37″ N., long. 146°32′20″ W.; to lat. 64°46′36″ N., long. 146°10′37″ W.; to lat. 64°40′15″ N., long. 146°10′39″ W.; to lat. 64°35′48″ N., long. 146°10′40″ W.; to lat. 64°35′48″ N., long. 146°11′38″ W.; to lat. 64°33′52″ N., long. 146°19′39″ W.; to lat. 64°33′38″ N., long. 146°19′39″ W.; to lat. 64°33′38″ N., long. 146°25′35″ W.; to the point of beginning.

Designated altitudes. 10,000 feet MSL to FL 310.

Time of designation. 0700-1900 local time Monday-Friday; other times by NOTAM.

Controlling agency. FAA, Fairbanks Approach Control.

Using agency. U.S. Army, AK (USARAK), Commanding General, Joint Base Elmendorf-Richardson (JBER), AK.

R-2205F Fairbanks, AK [New]

Boundaries—Beginning at lat. 64°45′29″ N., long. 146°47′49″ W.; to lat. 64°33′38″ N., long. 146°25′35″ W.; to lat. 64°33′38″ N., long. 146°45′18″ W.; to lat. 64°33′51″ N., long. 146°45′19″ W.; to lat. 64°33′51″ N., long. 146°46′19″ W.; to lat. 64°34′04″ N., long. 146°46′20″ W.; to lat. 64°41′10″ N., long. 146°55′00″ W.; to lat. 64°48′48″ N., long. 146°54′59″ W.; to lat. 64°48′48″ N., long. 146°47′29″ W.; to the point of beginning.

Designated altitudes. 10,000 feet MSL to FL 310.

Time of designation. 0700-1900 local time Monday-Friday; other times by NOTAM.

Controlling agency. FAA, Fairbanks Approach Control.

Using agency. U.S. Army, AK (USARAK), Commanding General, Joint Base Elmendorf-Richardson (JBER), AK.

R-2205G Fairbanks, AK [New]

Boundaries—Beginning at lat. 64°48′48″ N., long. 146°54′59″ W.; to lat. 64°41′10″ N., long. 146°55′00″ W.; to lat. 64°34′04″ N., long. 146°46′20″ W.; to lat. 64°36′14″ N., long. 146°56′23″ W.; to lat. 64°37′47″ N., long. 146°56′23″ W.; counter-clockwise along the 4.7-mile radius of Eielson AFB; to lat. 64°43′40″ N., long. 146°59′26″ W.; to lat. 64°44′54″ N., long. 146°59′33″ W.; to lat. 64°44′54″ N., long. 146°59′56″ W.; to lat. 64°48′47″ N., long. 146°59′59″ W.; to the point of beginning.

Designated altitudes. 10,000 feet MSL to FL 310.

Time of designation. 0700-1900 local time Monday-Friday; other times by NOTAM.

Controlling agency. FAA, Fairbanks Approach Control.

Using agency. U.S. Army, AK (USARAK), Commanding General, Joint Base Elmendorf-Richardson (JBER), AK.

R-2205H Fairbanks, AK [New]

Boundaries—Beginning at lat. 64°43′40″ N., long. 146°59′26″ W.; clockwise along the 4.7-mile radius of Eielson AFB; to lat. 64°37′47″ N., long. 146°56′23″ W.; to lat. 64°39′42″ N., long. 146°56′23″ W.; to lat. 64°39′41″ N., long. 146°57′23″ W.; to lat. 64°40′06″ N., long. 146°57′19″ W.; to lat. 64°40′09″ N., long. 147°00′19″ W.; to lat. 64°41′26″ N., long. 147°00′29″ W.; to lat. 64°41′26″ N., long. 147°02′26″ W.; to lat. 64°43′37″ N., long. 147°02′23″ W.; to the point of beginning.

Designated altitudes. 10,000 feet MSL to FL 310.

Time of designation. 0700-1900 local time Monday-Friday; other times by NOTAM.

Controlling agency. FAA, Fairbanks Approach Control.

Using agency. U.S. Army, AK (USARAK), Commanding General, Joint Base Elmendorf-Richardson (JBER), AK.

* * * * *

Issued in Washington, DC, on February 27, 2017.
Rodger A. Dean Jr.,
Manager, Airspace Policy Group.

[FR Doc. 2017-04189 Filed 3-3-17; 8:45 am]

BILLING CODE 4910-13-P